DEPARTMENT OF COMMERCE

International Trade Administration

[A-821-811]

Solid Fertilizer Grade Ammonium Nitrate From the Russian Federation: Rescission of Antidumping Duty Administrative Review; 2013-2014

AGENCY: Enforcement and Compliance, International Trade Administration, Department of Commerce.

DATES: Effective Date: December 29, 2014.

FOR FURTHER INFORMATION CONTACT: Elizabeth Eastwood or David Crespo, AD/CVD Operations, Office II, Enforcement and Compliance, International Trade Administration, U.S. Department of Commerce, 14th Street and Constitution Avenue NW., Washington, DC 20230; telephone: (202) 482-3874 and (202) 482-3693, respectively.

Background:

On April 1, 2014, the Department of Commerce (the Department) published in the Federal Register a notice of “Opportunity to Request Administrative Review” of the antidumping duty order on solid fertilizer grade ammonium nitrate (ammonium nitrate) from the Russian Federation (Russia) covering the period of review of April 1, 2013, through March 31, 2014.¹ During the anniversary month of April 2014, the Department received a timely request, in accordance with section 751(a) of the Tariff Act of 1930, as amended (the Act), for an administrative review from the petitioners, CF Industries, Inc. and El Dorado Chemical Company, for the following companies: (1) JSC Acron/JSC Dorogobuzh (collectively, “Acron”); and (2) MCC EuroChem/OJSC NAK Azot/OJSC Nevinnomyssky (collectively, “EuroChem”). On May 29, 2014, the Department published in the Federal Register a notice of initiation of administrative review with respect to these companies.²

¹ See Antidumping or Countervailing Duty Order, Finding, or Suspended Investigation; Opportunity To Request Administrative Review, 79 FR 18260 (April 1, 2014).

² See Initiation of Antidumping and Countervailing Duty Administrative Review, 79 FR 30809 (May 29, 2014).

On August 20, 2014, the petitioners withdrew their request for an administrative review for Acron and EuroChem.

Rescission of Review

Pursuant to 19 CFR 351.213(d)(1), the Department will rescind an administrative review, in whole or in part, if a party that requested the review withdraws the request within 90 days of the date of publication of notice of initiation of the requested review. The petitioners withdrew their request for review by the 90-day deadline. Therefore, we are rescinding the administrative review of the antidumping duty order on ammonium nitrate from Russia covering the period April 1, 2013, through March 31, 2014.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is issued and published in accordance with section 751 of the Act and 19 CFR 351.213(d)(4).

Dated: December 19, 2014.
Paul Piquado,
Assistant Secretary for Enforcement and Compliance.

[FR Doc. 2014-30391 Filed 12-24-14; 8:45 am]

BILLING CODE 3510-DS-P